DEPARTMENT OF HOMELAND SECURITY

Federal Emergency Management Agency

44 CFR Part 67

[Docket No. FEMA-D-7608]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | # Depth in feet above ground. *Elevation in feet (NGVD). • Elevation in feet (NACD).: Existing | # Depth in feet above ground. *Elevation in feet (NGVD). • Elevation in feet (NACD).: Modified | Communities affected
NORTH CAROLINA
Onslow County
Atlantic Ocean | At intersection of Chadwick Access Road and Carroll Street | •6 | •8 | Onslow County (Unincorporated Areas).
| Approximately 1,500 feet northeast of the intersection of Canal Street and 1st Street | •10 | •11 |
Atlantic Ocean | Approximately 0.55 mile north of the intersection of 2nd Avenue and Highway 210 | •11 | •8 | Town of North Topsail Beach.
| At intersection of Heron Cam Court and Highway 210 | •11 | •12 |
Back Swamp | At Duplin/County boundary | None | •57 | Onslow County (Unincorporated Areas).
| Approximately 0.7 mile upstream of Dell Brock Road | None | •90 |
Back Swamp | At confluence with Back Swamp | None | •58 | Onslow County (Unincorporated Areas).
Tributary 1 | Approximately 0.8 mile upstream of Futrell Road | None | •85 |
Back Swamp | At confluence with Back Swamp | None | •60 | Onslow County (Unincorporated Areas).
Tributary 3 | Approximately 2.2 miles upstream of the confluence with Back Swamp | None | •85 |
Back Swamp | At confluence with Back Swamp | None | •66 | Onslow County (Unincorporated Areas).
Tributary 6 | Approximately 1.4 miles upstream of the confluence with Back Swamp | None | •81 |
Back Swamp | At confluence with Back Swamp | None | •66 | Onslow County (Unincorporated Areas).
Tributary 7 | Approximately 1.3 miles upstream of the confluence with Back Swamp | None | •79 |
Back Swamp | At confluence with Back Swamp | None | •70 | Onslow County (Unincorporated Areas).
Tributary 8 | Approximately 0.8 mile upstream of the confluence with Back Swamp | None | •79 |
Back Swamp | At confluence with Back Swamp | None | •71 | Onslow County (Unincorporated Areas).
Tributary 9 | Approximately 250 feet upstream of Haw Branch Road | None | •82 |
Back Swamp | At confluence with Back Swamp | None | •78 | Onslow County (Unincorporated Areas).
Tributary 10 | Approximately 0.9 mile upstream of the confluence with Back Swamp | None | •89 |
Back Swamp | At confluence with Back Swamp | None | •81 | Onslow County (Unincorporated Areas).
Tributary 11 | Approximately 0.5 mile upstream of the confluence with Back Swamp | None | •85 |
Big Shakey Swamp | At confluence with Juniper Swamp | None | •43 | Onslow County (Unincorporated Areas).
| Approximately 2.1 miles upstream of the confluence with Juniper Swamp | None | •50 |
Cypress Branch | At the Onslow/Pender County boundary | •6 | •8 | Town of Holly Ridge, Onslow County (Unincorporated Areas).
| Approximately 1.2 miles upstream of the Bishop Road | None | •34 |
Flat Swamp | At confluence with Juniper Swamp | None | •37 | Town of Holly Ridge, Onslow County (Unincorporated Areas).
| Approximately 2.3 miles upstream of Preston Wells Road | None | •61 |
Holly Shelter Creek | At the Onslow/Pender County boundary | None | •36 | Onslow County (Unincorporated Areas).
| Approximately 0.2 mile downstream of Hardy Graham Road | None | •62 |
Juniper Swamp | At the Onslow/Pender County boundary | None | •35 | Onslow County (Unincorporated Areas).
| Approximately 4.7 miles upstream of State Highway 50 | None | •55 |
Juniper Swamp | At the confluence with Juniper Swamp | None | •37 | Onslow County (Unincorporated Areas).
Tributary 1 | Approximately 350 Areas) feet upstream of U.S. Highway 50 | None | •43 |
Juniper Swamp | At the confluence with Juniper Swamp | None | •44 | Onslow County (Unincorporated Areas).
Tributary 2 | Approximately 1.6 miles upstream of the confluence with Juniper Swamp | None | •59 |
Kings Creek | At the confluence with Kings Creek | •6 | •8 | Onslow County (Unincorporated Areas).
Tributary 1 | Approximately 2.1 miles upstream of Holly Ridge-Sneads Ferry Road | None | •57 |
Moores Creek | At the Onslow/Pender County boundary | None | •43 | Onslow County (Unincorporated Areas).
| Approximately 1.6 miles upstream of Andemora Road | None | •66 |
Moores Creek | At the Onslow/Pender County boundary | None | •51 | Onslow County (Unincorporated Areas).
Tributary 1 | Approximately 1.0 mile upstream of Tomahawk Road | None | •78 |
Moores Creek | At the ONslow/Pender County boundary | None | •47 | Onslow County (Unincorporated Areas).
Tributary 2 | Approximately 570 feet upstream of NC Highway 53 | None | •56 |
Moores Creek | At the confluence with Moores Creek | None | •44 | Onslow County (Unincorporated Areas).
Tributary 3 | Approximately 1.2 miles upstream of the confluence with Moores Creek | None | •62 |
Moores Creek | At the confluence with Moores Creek | None | •46 | Onslow County (Unincorporated Areas).
Tributary 4 | Approximately 385 Areas) feet upstream of NC Highway 53 | None | •69 |
Moores Creek | At the confluence with Moores Creek Tributary 4 | None | •52 | Onslow County (Unincorporated Areas).
Tributary 5 | Approximately 0.7 mile upstream of Andemora Road | None | •70 |
Ninemile Creek | At the Duplin/Onslow County boundary | None | •54 | Onslow County (Unincorporated Areas).
| Approximately 0.2 mile downstream of Davis Road | None | •76 |
Sandy Run Swamp | At the Onslow/Pender County boundary | None | •29 | Onslow County (Unincorporated Areas).
| Approximately 0.9 mile upstream of Haws Run Road | None | •45 |
Sandy Run Swamp | At the confluence with Sandy Run Swamp | None | •41 | Onslow County (Unincorporated Areas).
Tributary 1 | Approximately 1.5 miles upstream of the confluence with Sandy Run Swamp | None | •45 |
Shelter Swamp Creek | At the Onslow/Pender County boundary | None | •34 | Onslow County (Unincorporated Areas).
| Approximately 3.2 miles upstream of South Coston Road | None | •56 |
Shelter Swamp Creek | At the confluence of Shelter Swamp | None | •41 | Onslow County (Unincorporated Areas).
Tributary 1 | Approximately 0.8 mile upstream of the confluence with Shelter Swamp Creek | None | •41 |
Stump Sound within the Cape Fear River Basin | Approximately 0.23 mile south of the intersection of Morris Landing Road and Hardison Road | •6 | •8 | Onslow County (Unincorporated Areas).
| Along the shoreline at Thomas Landing (at the mouth of Turkey Creek) | •8 | •11 |
Tenmile Swamp | At the confluence with Ninemile Creek | None | •55 | Onslow County (Unincorporated Areas).
| Approximately 1.3 miles upstream of Swinson Road | None | •74 |
Town of Holly Ridge
Maps available for inspection at the Holly Ridge Town Hall, 212 Dyson Street, Holly Ridge, North Carolina.
Send comments to The Honorable Elmer Padgett, Mayor of the Town of Holly Ridge, P.O. Box 145, Holly Ridge, North Carolina 28445.
Town of North Topsail Beach
Maps available for inspection at the North Topsail Beach Town Hall, 2008 Loggerhead Court, North Topsail Beach, North Carolina.
Send comments to The Honorable Rodney Knowles, Mayor of the Town of North Topsail Beach, 2008 Loggerhead Court, North Topsail Beach, North Carolina 28460.
Onslow County (Unincorporated Areas)
Maps available for inspection at the Onslow County Floodplain Administration, 604 College Street, Jacksonville, North Carolina.
Send comments to Mr. Ronald Lewis, Onslow County Manager, 118 Old Bridge Street, Jacksonville, North Carolina 28540-4259.

(Catalog of Federal Domestic Assistance No. 83.100, “Flood Insurance.”)
December 8, 2004.
David I. Maurstad,
Acting Director, Mitigation Division, Emergency Preparedness and Response Directorate.

[FR Doc. 04-27622 Filed 12-16-04; 8:45 am]

BILLING CODE 9110-12-P